DEPARTMENT OF HEALTH AND HUMAN SERVICES

Administration for Children and Families

Proposed Information Collection Activity; Comment Request

Title: Implementation, Systems and Outcome Evaluation of the Tribal and Low-Income Health Profession Opportunity Grants (HPOG).

OMB No.: New Collection.

Billing Accounting Code (BAC): 418409 (G99612l).

Description: The Administration for Children and Families (ACE) is proposing information collection activities as part of the Implementation, Systems and Outcome Evaluation of the Health Profession Opportunity Grants (HPOG). Through this information collection, ACF seeks to develop comprehensive management and performance reports on the HPOG initiative and design a feasible and reliable evaluation design to produce accurate evidence of the effect of HPOG on individuals and health job training programs systems.

The goals of the HPOG evaluation are to establish a performance management reporting process for HPOG, and design an evaluation of HPOG. Both goals require collecting information from HPOG grantees on a regular basis. The information collection proposed is an internet-based collection of information from HPOG grantees on (1) program participants: baseline characteristics, program participation and patterns, and participant outputs and outcomes; and (2) program designs and operating characteristics. The performance management system would collect information from grantees on their programs and participants on a bi-annual basis.

Respondents: Participant data to be collected by program staff in the 32 grantee organizations (higher education Institutions, workforce investment boards, private training institutions, and tribal entities).

Annual Burden Estimates
Instrument | Annual number of respondents | Number of responses per respondent | Average burden hours per responses | Total annual burden hours
HPOG program performance report | 32 | 2 | 12 | 768
Estimated Total Annual Burden Hours |  |  |  | 768

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: January 20, 2011.
Steven M. Hanmer,
Reports Clearance Officer.

[FR Doc. 2011-1688 Filed 1-26-11; 8:45 am]

BILLING CODE 4184-01-M